DEPARTMENT OF ENERGY

Federal Energy Regulatory Commission

[Docket No. CP04-49-000]

Dominion Transmission, Inc.; Notice of Site Visit for the Proposed Fink Capacity Maintenance Project

February 10, 2004.

The OEP staff will conduct a site visit on February 25, 2004, and if needed February 26, 2004, to inspect Dominion Transmission, Inc.'s (DTI) proposed route and potential alternative routes for the Fink Capacity Maintenance Project.

The areas will be inspected by automobile. Representatives of DTI will accompany the OEP staff. Anyone interested in participating in the site visit should meet at Jackson's Mill Assembly Hall, Jackson Mill Road, Weston, West Virginia 26452, at 12 p.m. Participants must provide their own transportation.

For additional information, contact the Commission's Office of External Affairs at 1-866-208-FERC.

Magalie R. Salas,
Secretary.

[FR Doc. E4-290 Filed 2-13-04; 8:45 am]

BILLING CODE 6717-01-P